DEPARTMENT OF AGRICULTURE

Food and Nutrition Service

Agency Information Collection Activities: Proposed Collection; Comment Request: Additional Information To Be Collected Under the Uniform Grant Application Package for Discretionary Grant Programs for the Emergency Food Assistance Program Reach and Resiliency Grants

Correction

In notice document 2021-19764 appearing on pages 51110-51111 in the issue of Tuesday, September 14, 2021, make the following correction:

On page 51110, in the first column, in the DATES section, in the third and fourth lines “September 14, 2021.” should read “October 14, 2021.”

[FR Doc. C1-2021-19764 Filed 9-15-21; 8:45 am]

BILLING CODE 0099-10-D